DEPARTMENT OF ENERGY

Federal Energy Regulatory Commission

[Docket No. RD17-4-000]

Commission Information Collection Activities; Comment Request

AGENCY: Federal Energy Regulatory Commission.

ACTION: Notice of revised information collections and request for comments.

SUMMARY: The Federal Energy Regulatory Commission (Commission or FERC) previously issued a 60-day Notice in the Federal Register requesting public comments on the revisions to FERC-725A (Mandatory Reliability Standards for the Bulk-Power System), and FERC-725Z (Mandatory Reliability Standards: IRO Reliability Standards). The Commission received no comments.

Another unrelated item is currently pending review at the Office of Management and Budget (OMB) under FERC-725A. Only one item per OMB Control No. may be pending OMB review at a time. In order to submit this material for Docket No. RD17-4 timely to OMB, the package will be submitted to OMB under FERC-725Z, and a `placeholder' information collection number, FERC-725A(1C) (Mandatory Reliability Standards for Bulk-Power System: Reliability Standard TOP-001-4) rather than under FERC-725A.

In compliance with the requirements of the Paperwork Reduction Act of 1995, the Commission is submitting the FERC-725A(1C) and FERC-725Z to the OMB for review of the revised information collection requirements. Any interested person may file comments directly with OMB and should address a copy of those comments to the Commission as explained below.

DATES: Comments on the FERC-725A(1C) and FERC-725Z are due by August 16, 2017.

ADDRESSES: Comments filed with OMB, identified by the OMB Control Nos. TBD (for FERC-725A(1C)) and 1902-0276 (for FERC-725Z) should be sent via email to the Office of Information and Regulatory Affairs at: oira_submission@omb.gov, Attention: Federal Energy Regulatory Commission Desk Officer.

A copy of the comments should also be sent to the Commission, in Docket No. RD17-4-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-725A(1C) (Mandatory Reliability Standards for Bulk-Power System: Reliability Standard TOP-001-4), and FERC-725Z (Mandatory Reliability Standards: IRO Reliability Standards)

OMB Control No.: TBD (FERC-725A(1C)) and 1902-0276 (FERC-725Z).

Type of Request: Revisions to the information collection FERC-725Z and implementation of new `placeholder' information collection FERC-725A(1C), as discussed in Docket No. RD17-4-000.

Abstract: In a Petition dated March 6, 2017, the North American Electric Reliability Corporation (“NERC”) requested Commission approval for proposed Reliability Standards IRO-002-5 (Reliability Coordination, Monitoring and Analysis) and TOP-001-4 (Transmission Operations). NERC stated that the “proposed Reliability Standards address the Commission directives in Order No. 817 related to: (i) Transmission operator monitoring of non-bulk electric system (“BES”) facilities; (ii) redundancy and diverse routing of transmission operator, balancing authority, and reliability coordinator data exchange capabilities; and (iii) testing of alternative or less frequently used data exchange capabilities.” In addition, NERC requested Commission approval of the retirement of Reliability Standards TOP-001-3 and IRO-002-4. In an order on April 17, 2017,¹ the implementation of Reliability Standards IRO-002-5 and TOP-001-4 and the retirement of Reliability Standards IRO-002-4 and TOP-001-3 were approved.

¹ The Delegated Letter Order is available in the Commission's eLibrary at https://elibrary.ferc.gov/idmws/common/OpenNat.asp?fileID=14560616.

Type of Respondents: Transmission operators (TOP), balancing authorities (BA), and reliability coordinators (RC).

Estimate of Annual Burden: ² The Commission estimates the changes in the annual public reporting burden and cost due to Docket No. RD17-4-000 as follows.³

² Burden is defined as the total time, effort, or financial resources expended by persons to generate, maintain, retain, or disclose or provide information to or for a Federal agency. For further explanation of what is included in the information collection burden, refer to 5 Code of Federal Regulations 1320.3.

³ For the Reliability Standards being retired in Docket No. RD17-4, the baseline numbers for respondents, burden, and cost are the same figures as those in Order No. 817. The requirements and burdens (from the standards being retired) are continuing in the new standards, plus there are additional requirements and burdens as indicated in the table.

Changes Due to Docket No. RD17-4-000
Information collection requirements | Number of respondents & type of entity ⁴ | Annual number of responses per respondent | Total number of responses | Average burden hours & cost per response ($) | Total annual burden hours & total annual cost ($)
| (1) | (2) | (1) * (2) = (3) | (4) ⁵ | (3) * (4) = (5)
FERC-725A
Reporting and Recordkeeping Requirements (continuing in TOP-001-4 [formerly in TOP-001-3]) ⁶ |  |  |  | no change | no change
FERC-725A(1C) ⁷
Increases, due to Implementation of TOP-001-4 ⁸
Reporting (R10, R20, & R21), in Yr. 1 | 323 (TOP) | 1 | 323 | 11 hrs.; $707.19 | 3,553 hrs.; $228,422.37.
Reporting (R10, R20, & R21), in Yr. 2 & ongoing | 323 (TOP) | 1 | 323 | 3 hrs.; $192.87 | 969 hrs.; $62,297.01.
Recordkeeping, in Yr. 1 | 323 (TOP) | 1 | 323 | 3 hrs.; $113.25 | 969 hrs.; $36,579.75.
Recordkeeping, in Yr. 2 & ongoing | 323 (TOP) | 1 | 323 | 2 hrs.; $75.50 | 646 hrs.; $24,386.50.
Reporting (R23 & R24), in Yr. 1 | 99 (BA) | 1 | 99 | 8 hrs.; $514.32 | 792 hrs.; $50,917.68.
Reporting (R23 & R24), in Yr. 2 & ongoing | 99 (BA) | 1 | 99 | 2 hrs.; $128.58 | 198 hrs.; $12,729.42.
Recordkeeping, in Yr. 1 | 99 (BA) | 1 | 99 | 4 hrs.; $151.00 | 396 hrs.; $14,949.00.
Recordkeeping, in Yr. 2 and ongoing | 99 (BA) | 1 | 99 | 4 hrs.; $151.00 | 396 hrs.; $14,949.00.
Increase to FERC-725A(1C) in Year 1 |  |  |  |  | 5,710 hrs.; $330,868.80.
Increase to FERC-725A(1C) in Year 2 & ongoing |  |  |  |  | 2,209 hrs.; $114,361.93.
FERC-725Z
Reporting and Recordkeeping Requirements (continuing in IRO-002-5 [formerly in IRO-002-4]) ⁹ |  |  |  | no change | no change
Increases, due to Implementation of IRO-002-5 ¹⁰
Reporting (R2 & R3), in Yr. 1 | 11 (RC) | 1 | 11 | 8 hrs.; $514.32 | 88 hrs.; $5,657.52.
Reporting (R2 & R3), in Yr. 2 & ongoing | 11 (RC) | 1 | 11 | 2 hrs.; $128.58 | 22 hrs.; $1,414.38.
Recordkeeping, in Yr. 1 | 11 (RC) | 1 | 11 | 5 hrs.; $188.75 | 55 hrs.; $2,076.25.
Recordkeeping, in Yr. 2 & ongoing | 11 (RC) | 1 | 11 | 4 hrs.; $151.00 | 44 hrs.; $1,661.00.
Increase to FERC-725Z in Year 1 |  |  |  |  | 143 hrs.; $7,733.77.
Increase to FERC-725Z in Year 2 and ongoing |  |  |  |  | 66 hrs.; $3,075.38.
TOTAL INCREASE IN YEAR 1, Due To Docket No. RD17-4 |  |  |  |  | 5,853 hrs.; $338,602.57.
TOTAL INCREASE IN YEAR 2 AND ONGOING, Due To Docket No. RD17-4 |  |  |  |  | 2,275 hrs.; $117,437.31.

(As of 7/5/2017, the total OMB-approved annual burden inventory for FERC-725A is 1,642,395 hours; the total OMB-approved annual burden inventory for FERC-725Z is 49,331 hours.¹¹ Because FERC-725A(1C) is a new `placeholder' information collection number, the current inventory is 0.)

⁴ Our estimates are based on the NERC Compliance Registry of 12/12/2016, which indicates that, within the United States, there are 323 entities registered as TOPs, 99 entities registered as BAs, and 11 entities registered as RCs. One entity may be registered as having several roles.

⁵ The hourly cost figures, for salary plus benefits, for the new standards are based on Bureau of Labor Statistics (BLS) information (at http://www.bls.gov/oes/current/naics2_22.htm), as of May 2015. For reporting requirements, an electrical engineer (code 17-2071) is $64.29/hour; for the recordkeeping requirements, an information and record clerk (code 43-4199) is $37.75/hour.

⁶ The reporting and recordkeeping requirements and the associated burden will continue in TOP-001-4 (formerly included in TOP-001-3, which is now being retired). The corresponding estimated burden for the 196 TOPs and BAs continues to be 96 hours per response (or a total estimated burden of 18,816 hours). These burdens continue in FERC-725A with no change, so a formal submittal for FERC-725A will not be made at this time. The changes are being submitted under `placeholder' information collection no. FERC-725A(1C).

⁷ The new requirements and burden which would normally be submitted to OMB under FERC-725A will be submitted under `placeholder' information collection number FERC-725A(1C).

⁸ Requirement R21 (applicable to TOPs in ongoing yrs.) covers quarterly testing and associated reporting and recordkeeping requirements. Requirement R24 (applicable to BAs in ongoing yrs.) covers quarterly testing and associated engineering and recordkeeping requirements.

⁹ The reporting and recordkeeping requirements and the associated burden will continue in IRO-002-5 (burden formerly included in IRO-002-4, which is being retired). The corresponding estimated burden for the 11 RCs continues to be 24 hours per response (or a total estimated burden of 264 hours).

¹⁰ Requirement R3 (applicable to RCs in ongoing yrs.) covers quarterly testing and associated reporting and recordkeeping requirements.

¹¹ These figures are the total OMB-approved inventory, prior to the revisions in Docket No. RD17-4. In addition, as of 7/5/2017, there are proposed revisions pending OMB review for the FERC-725A (related to the Notice of Proposed Rulemaking in Docket No. RM16-20) which are not counted in these OMB-approved inventory figures.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

Dated: July 6, 2017.
Kimberly D. Bose,
Secretary.

[FR Doc. 2017-14908 Filed 7-14-17; 8:45 am]

BILLING CODE 6717-01-P